DEPARTMENT OF COMMERCE

International Trade Administration

[A-421-805]

Final Results of Full Sunset Review: Aramid Fiber Formed of Poly Para-Phenylene Terephthalamide From the Netherlands

AGENCY: Import Administration, International Trade Administration, Department of Commerce.

ACTION: Notice of Final Results of Expedited Sunset Review: Aramid Fiber formed of Poly Para-Phenylene Terephthalamide from the Netherlands.

SUMMARY: On June 23, 2000, the Department of Commerce (“the Department”) published a notice of preliminary results of the full sunset review of the antidumping duty order on aramid fiber formed of poly para-phenylene terephthalamide (“aramid fiber”) from the Netherlands (64 FR 39124) pursuant to section 751(c) of the Tariff Act of 1930, as amended (“the Act”). We provided interested parties an opportunity to comment on our preliminary results. We received comments from both domestic and respondent interested parties. No public hearing was requested by the parties. As a result of this review, the Department finds that revocation of the antidumping order would likely lead to continuation or recurrence of dumping at the levels indicated in the Final Results of Review section of this notice.

Effective Date: November 1, 2000.

FOR FURTHER INFORMATION CONTACT: Martha V. Douthit or James P. Maeder, Office of Policy for Import Administration, International Trade Administration, U.S. Department of Commerce, 14th Street and Constitution Avenue, NW, Washington, DC 20230; telephone: (202) 482-5050 or (202) 482-3330, respectively.

SUPPLEMENTAL INFORMATION:

The Applicable Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR Part 351 (2000) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On June 23, 2000, the Department published in the Federal Register a notice of preliminary results of the full sunset review of the antidumping order on aramid fiber from the Netherlands (65 FR 39124), pursuant to section 751(c) of the Act. In our preliminary results, we found that revocation of the order would likely result in continuation or recurrence of dumping with weighted-average dumping margins of 2.90 percent for Akzo and 66.92 percent for all other Dutch producers and exporters of the subject merchandise.

On August 7, 2000, the domestic interested party, E.I. Dupont de Nemours & Company (“DuPont”), submitted a case brief within the deadline specified in 19 CFR 351.309(c)(1)(i). On August 14, 2000, the respondent interested party, Twaron Products V.o.F. and Twaron Products, Inc. (formerly, Azko) (collectively, “Twaron”), submitted rebuttal briefs within the deadline specified in 19 CFR 351.309(c)(1)(i). The Department provided interested parties an opportunity to request a public hearing, in accordance with 19 CFR 351.310. In this sunset review, no public hearing was requested or held.

Scope of Review

The products covered by this review are all forms of aramid fiber from the Netherlands. These consist of aramid fiber in the form of filament yarn (including single and corded), staple fiber, pulp (wet or dry), spun-laced and spun-bonded nonwovens, chopped fiber, and floc. Tire cord is excluded from the class or kind of merchandise under review. This merchandise is currently classifiable under the Harmonized Tariff Schedule of the United States (“HTSUS”) item numbers 5402.10.3020, 5402.10.3040, 5402.10.6000, 5503.10.1000, 5503.10.9000, 5601.30.0000, and 5603.00.9000. The HTSUS item numbers are provided for convenience and Customs purposes. The written description of the scope remains dispositive.

Analysis of Comments Received

All issues raised in the case and rebuttal briefs by parties to this sunset review are addressed in the “Issues and Decision Memorandum” (“Decision Memo”) from Jeffrey A. May, Director, Office of Policy, Import Administration, to Troy H. Cribb, Assistant Secretary for Import Administration, dated October 26, 2000, which is hereby adopted by this notice. The issues discussed in the Decision Memo include the likelihood of continuation or recurrence of dumping and the magnitude of the margin likely to prevail were the order revoked. Parties can find a complete discussion of all issues raised in this review and the corresponding recommendations in this public memorandum, which is on file in room B-099 of the main Commerce Building. In addition, a complete version of the Decision Memorandum can be accessed directly on the Web at http://ia.ita.doc.gov. The paper copy and electronic version of the Decision Memo are identical in content.

Final Results of Review

We determine that revocation of the antidumping duty order on aramid fiber from the Netherlands would be likely to lead to continuation or recurrence of dumping at the percentage weighted-average margins listed below:

Manufacturer/exporter | Margin (percent)
Azko | 2.90
All Others | 66.92

This notice serves as the only reminder to parties subject to administrative protective order (APO) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: October 26, 2000.
Troy H. Cribb,
Assistant Secretary for Import Administration.

[FR Doc. 00-28042 Filed 10-31-00; 8:45 am]

BILLING CODE 3510-DS-P